POSTAL SERVICE

International Product Change—Global Expedited Package Services—Non-Published Rates

AGENCY: Postal Service™.

ACTION: Notice.

SUMMARY: The Postal Service gives notice of filing a request with the Postal Regulatory Commission to add Global Expedited Package Services—Non-Published Rates 3 (GEPS—NPR 3) to the Competitive Products List.

DATES: December 27, 2011.

FOR FURTHER INFORMATION CONTACT: Margaret M. Falwell, (202) 268-2576.

SUPPLEMENTARY INFORMATION: The United States Postal Service® hereby gives notice that, pursuant to 39 U.S.C. 3642, on December 20, 2011, it filed with the Postal Regulatory Commission a Request of the United States Postal Service to add Global Expedited Package Services—Non-Published Rates 3 (GEPS—NPR 3) to the Competitive Products List and Notice of Filing GEPS—NPR 3 Model Contract and Application for Non-public Treatment of Materials Filed Under Seal. Documents are available at http://www.prc.gov, Docket Nos. MC2012-4 and CP2012-8.

Stanley F. Mires,
Attorney, Legal Policy & Legislative Advice.

[FR Doc. 2011-33161 Filed 12-23-11; 8:45 am]

BILLING CODE 7710-12-P